DEPARTMENT OF THE INTERIOR

National Park Service

[NPS-WASO-NAGPRA-NPS0024991; PPWOCRADN0-PCU00RP14.R50000]

Notice of Intent To Repatriate Cultural Items: New York State Museum, Albany, NY

AGENCY: National Park Service, Interior.

ACTION: Notice.

SUMMARY: The New York State Museum, in consultation with the appropriate Indian Tribes or Native Hawaiian organizations, has determined that the cultural item listed in this notice meets the definition of a sacred object. Lineal descendants or representatives of any Indian Tribe or Native Hawaiian organization not identified in this notice that wish to claim these cultural items should submit a written request to the New York State Museum. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the New York State Museum at the address in this notice by March 26, 2018.

ADDRESSES: Lisa Anderson, New York State Museum, 3049 Cultural Education Center, Albany, NY 12230, telephone (518) 486-2020, email lisa.anderson@nysed.gov.

SUPPLEMENTARY INFORMATION: Notice is here given in accordance with the Native American Graves Protection and Repatriation Act (NAGPRA), 25 U.S.C. 3005, of the intent to repatriate a cultural item under the control of the New York State Museum, Albany, NY, that meets the definition of a sacred object under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

In 1956, the museum acquired one cultural item as part of a larger collection purchased from the Albert G. Heath Collection at the Logan Museum of Anthropology at Beloit College in Beloit, WI. The cultural item was originally purchased by Mr. Heath from Joe Kishigobenesse, an Ottawa, who resided in Emmet County, MI.

The sacred object is a water drum identified by representatives of the Little Traverse Bay Bands of Odawa Indians, Michigan, as a Grandfather Drum used by the Midewiwin medicine society. Traditional religious leaders of the Little Traverse Bay Bands of Odawa Indians, Michigan, have identified the drum as necessary for the practice of traditional Native American religions by present-day adherents. Museum documentation, supported by oral and written evidence presented during consultation, indicates the drum is culturally affiliated with the Little Traverse Bay Bands of Odawa Indians, Michigan.

Determinations Made by the New York State Museum

Officials of the New York State Museum have determined that:

• Pursuant to 25 U.S.C. 3001(3)(C), the one cultural item described above is a specific ceremonial object needed by traditional Native American religious leaders for the practice of traditional Native American religions by their present-day adherents.

• Pursuant to 25 U.S.C. 3001(2), there is a relationship of shared group identity that can be reasonably traced between the sacred object and the Little Traverse Bay Bands of Odawa Indians, Michigan.

Additional Requestors and Disposition

Lineal descendants or representatives of any Indian Tribe or Native Hawaiian organization not identified in this notice that wish to claim this cultural item should submit a written request with information in support of the claim to Lisa Anderson, New York State Museum, 3049 Cultural Education Center, Albany, NY 12230, telephone (518) 486-2020, email lisa.anderson@nysed.gov, by March 26, 2018. After that date, if no additional claimants have come forward, transfer of control of the sacred object to Little Traverse Bay Bands of Odawa Indians, Michigan, may proceed.

The New York State Museum is responsible for notifying the Little Traverse Bay Bands of Odawa Indians, Michigan, that this notice has been published.

Dated: February 2, 2018.
Melanie O'Brien,
Manager, National NAGPRA Program.

[FR Doc. 2018-03638 Filed 2-21-18; 8:45 am]

BILLING CODE 4312-52-P